DEPARTMENT OF AGRICULTURE

Submission for OMB Review; Comment Request

February 2, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 8, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: How States Safeguard Supplemental Nutrition Assistance Program Participant's Personally Identifiable Information (PII).

OMB Control Number: 0584-NEW.

Summary of Collection: Section 11(e)(8) of the Food, Conservation, and Energy Act of 2008 requires that these millions of households must submit personally identifiable information (PII) in order to receive SNAP benefits. PII includes information that directly identifies individuals, such as individuals' names and Social Security numbers, as well as information like home addresses, which can be used to deduce the identity of an individual. While State agencies (SAs) implement policies to safeguard SNAP PII, little is systematically known about the policies and practices that SAs have in place. Accordingly, FNS wants to assess the ways that States safeguard SNAP PII and identify best practices to protect such information.

Need and Use of the Information: FNS will use the information collected to provide information to SAs on ways they can improve how they safeguard SNAP PII. This study has five main objectives: (1) Describe legislation, regulations, and policies that address how participants' PII must be safeguarded; (2) describe methods that can be used to safeguard PII; (3) describe how States currently safeguard participants' PII; (4) examine the consistency of safeguarding practices across States; and (5) provide recommendations to States to improve safeguarding of PII.

Description of Respondents: State, Local, Tribal Government, Private Sector (Business-for-profit and not-for profit).

Number of Respondents: 186.

Frequency of Responses: Reporting: On occasion.

Total Burden Hours: 132.

Ruth Brown,
Departmental Information Collection Clearance Officer.

[FR Doc. 2021-02414 Filed 2-4-21; 8:45 am]

BILLING CODE 3410-30-P